DEPARTMENT OF JUSTICE

Drug Enforcement Administration

Manufacturer of Controlled Substances; Notice of Application

Pursuant to Section 1301.33(a) of Title 21 of the Code of Federal Regulations (CFR), this is notice that on April 25, 2002, Cody Laboratories, Inc., 331 33rd Street, Cody, Wyoming 82414, made application by renewal, and on March 5, 2003, by letter to the Drug Enforcement Administration (DEA) for registration as a bulk manufacturer of the basic classes of Schedule II of controlled substances listed below:

Drug | Schedule
Dihydromorphine (9145) | II
Methamphetamine (1105) | II
Amphetamine (1100) | II
Amobarbital (2125) | II
Pentobarbital (2270) | II
Secobarbital (2315) | II
Phenylacetone (8501) | II
Oxycodone (9143) | II
Hydromorphone (9150) | II
Fentanyl (9801) | II

The firm plans to produce bulk products for distribution to its customers.

Any other such applicant and any person who is presently registered with DEA to manufacture such substances may file comments or objections to the issuance of the proposed registration.

Any such comments or objections may be addressed, in quintuplicate, to the Deputy Assistant Administrator, Office of Diversion Control, Drug Enforcement Administration, United States Department of Justice, Washington, DC 20537, Attention: Drug Operations Section, Domestic Drug Unit (ODOD) and must be filed no later than June 16, 2003.

Dated: April 3, 2003.
Laura M. Nagel,
Deputy Assistant Administrator, Office of Diversion Control, Drug Enforcement Administration.

[FR Doc. 03-9227 Filed 4-14-03; 8:45 am]

BILLING CODE 4410-09-M